DEPARTMENT OF THE TREASURY

Office of Thrift Supervision

Proposed Agency Information Collection Activities; Comment Request

ACTION: Notice and request for comments.

SUMMARY: The Department of the Treasury, as part of its continuing effort to reduce paperwork and respondent burden, invites the general public and other Federal agencies to comment on proposed and continuing information collections, as required by the Paperwork Reduction Act of 1995, Public Law 104-13. Today, the Office of Thrift Supervision within the Department of the Treasury solicits comments on Loans to Executive Officers, Directors, and Principal Shareholders of Savings Associations.

DATES: Submit written comments on or before January 16, 2001.

ADDRESSES:

Mail: Send comments to Manager, Dissemination Branch, Information Management and Services Division, Office of Thrift Supervision, 1700 G Street, NW., Washington, DC 20552, Attention 1550-0075.

Delivery: Hand deliver comments to the Guard's Desk, East Lobby Entrance, 1700 G Street, NW., from 9 a.m. to 4 p.m. on business days, Attention 1550-0075.

Facsimiles: Send facsimile transmissions to FAX Number (202) 906-7755, Attention 1550-0075; or (202) 906-6956 (if comments are over 25 pages).

E-Mail: Send e-mails to “public.info@ots.treas.gov”, Attention 1550-0075, and include your name and telephone number.

Public Inspection: Interested persons may inspect comments at the Public Reference Room, 1700 G St. NW., from 10 a.m. until 4 p.m. on Tuesdays and Thursdays or obtain comments and/or an index of comments by facsimile by telephoning the Public Reference Room at (202) 906-5900 from 9 a.m. until 5 p.m. on business days. Comments and the related index will also be posted on the OTS Internet Site at “www.OTS.treas.gov''.

FOR FURTHER INFORMATION CONTACT: Donna M. Deale, Supervision, Office of Thrift Supervision, 1700 G Street, NW., Washington, DC 20552, (202) 906-7488.

SUPPLEMENTARY INFORMATION: Title: Loans to Executive Officers, Directors, and Principal Shareholders of Savings Associations.

OMB Number: 1550-0075.

Form Number: Not applicable.

Abstract: The regulation requires savings associations to maintain detailed records of their extensions of credit to executive officers, directors, and principal shareholders. The regulation also requires that savings associations report to the OTS all loans to executives and disclose the amount of its extensions of credit following a written request from the public. Indebtedness to correspondent banks must also be disclosed to the board of directors and made available for OTS review during examinations.

Current Actions: OTS proposes to renew this information collection without revision.

Type of Review: Renewal.

Affected Public: Business or For Profit.

Estimated Number of Respondents: 1,084.

Estimated Time Per Respondent: 11 hours per response.

Estimated Total Annual Burden Hours: 11,924 hours.

Request for Comments: The OTS will summarize comments submitted in response to this notice or will include these comments in its request for OMB approval. All comments will become a matter of public record. The OTS invites comment on: (a) Whether the collection of information is necessary for the proper performance of the functions of the agency, including whether the information shall have practical utility; (b) the accuracy of the agency's estimate of the burden of the collection of information; (c) ways to enhance the quality; (d) ways to minimize the burden of the collection of information on respondents, including the use of automated collection techniques or other forms of information technology; and (e) estimates of capital or starting costs and costs of operation, maintenance, and purchase of services to provide information.

Dated: November 7, 2000.
John E. Werner,
Director, Information & Management Services Division.

[FR Doc. 00-29042 Filed 11-13-00; 8:45 am]

BILLING CODE 6720-01-P